DEPARTMENT OF DEFENSE

Department of the Army

Final Environmental Impact Statement for the Schofield Generating Station Project, United States Army Garrison, Hawaii

AGENCY: Department of the Army, DoD.

ACTION: Notice of availability.

SUMMARY: The Department of the Army announces the availability of the Final Environmental Impact Statement (FEIS) for the proposed lease of land and granting of easements on Schofield Barracks and Wheeler Army Airfield to Hawaiian Electric Company (Hawaiian Electric) for the construction, ownership, operation, and maintenance of a 50-megawatt (MW) capacity, biofuel-capable generating station, referred to as the Schofield Generating Station, and associated power poles, high-tension power lines, and related equipment and facilities. In accordance with the National Environmental Policy Act (NEPA), the FEIS analyzes the environmental impacts associated with construction and operation of the Schofield Generating Station and associated infrastructure.

DATES: No decision will be made until 30 days after publication of the NOA in the Federal Register.

ADDRESSES: A copy of the FEIS may be obtained by contacting: Department of the Army, Directorate of Public Works, United States Army Garrison, Hawaii ATTN: IMHW-PWE (L. Graham), 947 Wright Avenue, Wheeler Army Airfield, Schofield Barracks, Hawaii 96857-5013; or by email to sgspcomments@tetratech.com.

The FEIS can also be viewed at the following Web site: http://www.garrison.hawaii.army.mil/schofieldplant.

FOR FURTHER INFORMATION CONTACT: Please contact Ms. Lisa Graham, NEPA Coordinator, U.S. Army Garrison, Hawaii. Ms. Graham can be reached by phone at (808) 656-3075, or by email at usaghi.comrel@gmail.com.

SUPPLEMENTARY INFORMATION: The Proposed Action, referred to as the Schofield Generating Station Project (SGSP), consists of:

(1) The Army's lease of 8.13 acres of land and the related granting of a 2.5-acre interconnection easement on Schofield Barracks and Wheeler Army Airfield to Hawaiian Electric to construct, operate, and maintain a 50-MW capacity renewable energy generating station to include associated power poles, high-tension power lines, and related equipment and facilities.

(2) The State of Hawaii Department of Land and Natural Resources granting of a 1.28-acre easement and a 0.7-acre conservation district authorization to Hawaiian Electric allowing for the construction of a 46 kilovolt (kV) electrical power transmission line between the SGSP site and the existing Wahiawa Substation.

(3) Hawaiian Electric's construction, ownership, operation, and maintenance of a 50 MW capacity, biofuel-capable generating station and 46 kV sub-transmission line required to connect the Schofield Generating Station to the Hawaiian Electric grid.

The primary purpose of the Proposed Action is two-fold: To provide improved energy security to the U.S. Army Garrison, Hawaii at Schofield Barracks, Wheeler Army Airfield, and Field Station Kunia and to provide new secure, firm, flexible, and renewable energy generation to the grid on Oahu, Hawaii.

The needs for the Proposed Action are to increase energy security for the Army and Oahu; assist the Army in supporting renewable energy-related laws and Executive Orders and meeting its renewable energy goals; assist Hawaiian Electric in meeting the Hawaii Renewable Portfolio Standard goals; and improve future electrical generation on Oahu.

The electricity produced by the SGSP would normally supply power to all Hawaiian Electric customers through the island-wide electrical grid. During outages that meet the criteria specified in the Operating Agreement between the Army and Hawaiian Electric, SGSP output would first be provided to Army facilities at Schofield Barracks, Wheeler Army Airfield, and Field Station Kunia up to their peak demand of 32 MW, to meet their missions, and would additionally support the grid up to the station's full capacity. If there were a full island outage, the generating station could be used to restart other generating stations on the island.

Under the No Action Alternative, the Army would not lease the property or grant the easement and Hawaiian Electric would not construct and operate the SGSP.

The FEIS evaluates the impacts on land use; airspace use; visual resources; air quality, including climate and greenhouse gasses; noise; traffic and transportation; water resources; geology and soils; biological resources; cultural resources; hazardous and toxic substances; socioeconomics, including environmental justice; and utilities and infrastructure.

Impacts were assessed assuming full-time operation of the generating facility (24 hours a day, 365 days a year). Under normal conditions, the facility would likely operate less than full-time, so projected impacts could be less.

Anticipated impacts would be less than significant for all resources. All activities would fall within existing regulations, permits, and plans. Best management practices and design measures that would avoid or minimize adverse effects would be implemented for these resources: Visual, air quality, noise, traffic and transportation, water, geology and soils, biological resources, cultural resources, and hazardous and toxic substances.

Comments received on the Draft Environmental Impact Statement (DEIS) are addressed in the FEIS. Changes made to the text of the DEIS include minor additions and edits only. No substantive changes to the alternatives considered or the findings of the impact analysis were required or made.

Brenda S. Bowen,
Army Federal Register Liaison Officer.

[FR Doc. 2015-28223 Filed 11-5-15; 8:45 am]

BILLING CODE 3710-08-P